ENVIRONMENTAL PROTECTION AGENCY

[ER-FRL-9053-1]

Environmental Impact Statements; Notice of Availability

Responsible Agency: Office of Federal Activities, General Information 202-564-5632 or https://www.epa.gov/nepa.

Weekly receipt of Environmental Impact Statements (EIS)

Filed September 14, 2020 10 a.m. EST Through September 21, 2020 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200188, Draft Supplement, USFS, WV, Mountain Valley Pipeline and Equitrans Expansion Project Draft Supplemental Environmental Impact Statement, Comment Period Ends: 11/09/2020, Contact: Ken Arney 888-603-0261.

EIS No. 20200189, Draft, USAF, GA, Moody Air Force Base Comprehensive Airspace Initiative, Comment Period Ends: 11/24/2020, Contact: Lorence Busker 229-257-2396.

EIS No. 20200190, Draft, USAF, TX, B-21 Main Operating Base (MOB 1) Beddown at Dyess AFB, Texas or Ellsworth AFB South Dakota, Comment Period Ends: 11/09/2020, Contact: Julianne Turko 210-925-3777.

EIS No. 20200191, Final, USFS, AK, Rulemaking for Alaska Roadless Areas, Review Period Ends: 10/26/2020, Contact: Ken Tu 303-275-5156.

EIS No. 20200192, Final Supplement, FDOT, FHWA, FL, Tampa Interstate Study, Contact: Luis D. Lopez Rivera 407-867-6420. Pursuant to U.S.C. 139(n)(2), FHWA has issued a single document that consists of a final supplemental environmental impact statement and record of decision. Therefore, the 30-day wait/review period under NEPA does not apply to this action.

EIS No. 20200193, Final, BR, CA, Truckee Canal Extraordinary Maintenance, Review Period Ends: 10/26/2020, Contact: Laurie Nicholas 775-884-8360.

EIS No. 20200194, Final, NNSA, SC, Plutonium Pit Production at the Savannah River Site in South Carolina, Review Period Ends: 10/26/2020, Contact: Ms. Jennifer Nelson 803-557-6372.

Amended Notice

EIS No. 20200168, Draft, FAA, CA, Bob Hope Hollywood Burbank Airport Replacement Passenger Terminal Project, Comment Period Ends: 10/27/2020, Contact: Edvige B. Mbakoup 424-405-7283. Revision to FR Notice Published 8/21/2020; Extending the Comment Period from 10/5/2020 to 10/27/2020.

EIS No. 20200182, Final, USFS, AZ, WITHDRAWN—Fossil Creek Wild and Scenic River Comprehensive River Management Plan, Contact: Mike Dechter 928-527-3416. Revision to FR Notice Published 09/18/2020; Officially Withdrawn per request of the submitting agency.

Dated: September 21, 2020.
Cindy S. Barger,
Director, NEPA Compliance Division, Office of Federal Activities.

[FR Doc. 2020-21174 Filed 9-24-20; 8:45 am]

BILLING CODE 6560-50-P